DEPARTMENT OF ENERGY

Federal Energy Regulatory Commission

[Docket Nos. RP00-319-002 and RP00-598-002]

Discovery Gas Transmission LLC; Notice of Compliance Filing

November 6, 2002.

Take notice that on October 31, 2002, Discovery Gas Transmission LLC (Discovery) tendered for filing in its FERC Gas Tariff, Original Volume No. 1, the following pro forma tariff sheet in compliance with the Commission's Order on Compliance with Order Nos. 637, 587-G and 587-L, issued May 1, 2002:

Substitute Original Sheet No. 197

Discovery further states that copies of the filing have been mailed to each of its customers, interested State Commissions and other interested persons.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's website at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's web site under the “e-Filing” link.

Magalie R. Salas,
Secretary.

[FR Doc. 02-28773 Filed 11-12-02; 8:45 am]

BILLING CODE 6717-01-P